DEPARTMENT OF COMMERCE

International Trade Administration

[A-580-813]

Stainless Steel Butt-Weld Pipe Fittings from Korea

AGENCY: Import Administration, International Trade Administration, Department of Commerce.

ACTION: Notice of Initiation of New Shipper Antidumping Duty Review.

SUMMARY: The Department of Commerce has received a request for a new shipper review of the antidumping duty order on certain welded stainless steel butt-weld pipe fittings from Korea issued on February 23, 1993 (58 FR 11029). In accordance with our regulations, we are initiating a new shipper review covering TK Corporation.

EFFECTIVE DATE: October 5, 2001.

FOR FURTHER INFORMATION CONTACT: Fred Baker, Michael Heaney, or Robert James, AD/CVD Enforcement Group III, Import Administration, International Trade Administration, U.S. Department of Commerce, 14th Street and Constitution Avenue, NW, Washington, D.C. 20230, telephone: (202) 482-2924, (202) 482-4475, or (202) 482-0649, respectively.

SUPPLEMENTARY INFORMATION:

Applicable Statute and Regulations

Unless otherwise indicated, all citations to the Tariff Act of 1930, as amended (the Tariff Act), are references to the provisions effective January 1, 1995, the effective date of the amendments made to the Tariff Act by the Uruguay Round Agreements Act. In addition, unless otherwise indicated, all references to the Department's regulations are to 19 CFR part 351 (2001).

Background

The Department received a timely request, in accordance with section 751(a)(2)(B) of the Tariff Act and 19 CFR 351.214(d) of the Department's regulations, for a new shipper review of the antidumping duty order on stainless steel butt-weld pipe fittings from Korea. See Antidumping Duty Order: Certain Welded Stainless Steel Butt-Weld Pipe Fittings from Korea, 58 FR 11029 (February 23, 1993). See also the letter to the Secretary of Commerce from the law firm of Miller & Chevalier, August 31, 2001, requesting a new shipper review on behalf of TK Corporation, an exporter/producer of stainless steel butt-weld pipe fittings.

Initiation of Review

Pursuant to the Department's regulations at 19 CFR 351.214(b), TK Corporation certified in its August 31, 2001 submission that it did not export subject merchandise to the United States during the period of the investigation (POI) (December 1, 1991 through May 30, 1992), and that it was not affiliated with any exporter or producer of the subject merchandise to the United States during the POI. TK Corporation also submitted documentation establishing the date on which it first shipped the subject merchandise for export to the United States, the volume shipped, and the date of the first sale to an unaffiliated customer in the United States.

In accordance with section 751(a)(2)(B)(ii) of the Tariff Act and section 351.214(d)(1) of the Department's regulations, we are initiating a new shipper review of the antidumping duty order on stainless steel butt-weld pipe fittings from Korea. This review covers the period February 1, 2001 through July 31, 2001. We intend to issue the final results of the review no later than 180 days from the date of publication of this notice.

We will instruct the Customs Service to suspend liquidation of any unliquidated entries of the subject merchandise from TK Corporation and allow, at the option of the importer, the posting, until completion of the review, of a bond or security in lieu of a cash deposit for each entry of the merchandise exported by TK Corporation in accordance with 19 CFR 351.214(e).

Interested parties may submit applications for disclosure under administrative protective order in accordance with 19 CFR 351.305(b).

This initiation and this notice are in accordance with section 751(a) of the Tariff Act and section 351.214 of the Department's regulations.

Dated: Septembeer 28, 2001.
Joseph A. Spetrini,
Deputy Assistant Secretary, AD/CVD Enforcement Group III.

[FR Doc. 01-25097 Filed 10-4-01; 8:45 am]

BILLING CODE 3510-DS-P